DEPARTMENT OF JUSTICE

Executive Office for Immigration Review

8 CFR Part 1003

Professional Conduct for Practitioners

CFR Correction

In Title 8 of the Code of Federal Regulations, revised as of January 1, 2013, on page 857, in § 1003.108, the following words are added to the end of the second sentence in paragraph (a): “before the filing of a Notice of Intent to Discipline.”

[FR Doc. 2013-17392 Filed 7-17-13; 8:45 am]

BILLING CODE 1505-01-D